DEPARTMENT OF AGRICULTURE

Forest Service

Newspapers Used for Publication of Legal Notices by the Rocky Mountain Region: Colorado, Kansas, Nebraska, and Parts of South Dakota and Wyoming

AGENCY: Forest Service, Agriculture (USDA).

ACTION: Notice of newspapers of record.

SUMMARY: This notice lists the newspapers that will be used by the ranger districts, national forests and grasslands, and regional office of the Rocky Mountain Region to publish legal notices. The intended effect of this action is to inform interested members of the public which newspapers the Forest Service will use to publish notices of proposed actions and notices of decision. This will provide the public with constructive notice of Forest Service proposals and decisions, provide information on the procedures to comment, object or appeal, and establish the date that the Forest Service will use to determine if comments or appeals/objections were timely.

DATES: Publication of legal notices in the listed newspapers will begin on the date of this publication and continue until further notice.

ADDRESSES: Scarlett Vallaire, Regional Administrative Review Coordinator, Rocky Mountain Region, 1617 Cole Blvd., Bldg. 17, Lakewood, CO 80401.

FOR FURTHER INFORMATION CONTACT: Scarlett Vallaire, Regional Administrative Review Coordinator, by phone at 801-989-6605 or by email at scarlett.vallaire@usda.gov.

SUPPLEMENTARY INFORMATION: The administrative procedures at 36 Code of Federal Regulations (CFR) parts 214, 218, and 219 require the Forest Service to publish notices in a newspaper of general circulation. The content of the notices is specified in 36 CFR parts 214, 218, and 219. In general, the notices will identify: the decision or project, by title or subject matter; the name and title of the official making the decision; how to obtain additional information; and where and how to file comments or appeals/objections. The date the notice is published will be used to establish the official date for the beginning of the comment or appeal/objection period. The newspapers to be used are as follows:

Regional Forester, Rocky Mountain Region

Regional Forester decisions affecting National Forests in Colorado, Kansas, Nebraska and those portions of South Dakota and Wyoming within the Rocky Mountain Region: The Denver Post.

Arapaho and Roosevelt National Forests and Pawnee National Grassland

Forest Supervisor decisions: Coloradoan.

Canyon Lakes District Ranger decisions: Coloradoan.

Pawnee District Ranger decisions: Greeley Tribune.

Boulder District Ranger decisions: Daily Camera.

Clear Creek District Ranger decisions: Clear Creek Courant. A “courtesy” copy will also be published in the Mountain Ear.

Sulphur District Ranger decisions: Middle Park Times.

Bighorn National Forest

Forest Supervisor and District Ranger decisions: Casper Star-Tribune.

Black Hills National Forest

Forest Supervisor decisions: The Rapid City Journal.

Bearlodge District Ranger decisions: The Rapid City Journal.

Mystic District Ranger decisions: The Rapid City Journal.

Hell Canyon District Ranger decisions: The Rapid City Journal.

Northern Hills District Ranger decisions: Black Hills Pioneer.

Grand Mesa, Uncompahgre, and Gunnison National Forests

Forest Supervisor decisions: Grand Junction Daily Sentinel.

Grand Valley District Ranger decisions: Grand Junction Daily Sentinel.

Paonia District Ranger decisions: Delta County Independent.

Gunnison District Ranger decisions: Gunnison Country Times.

Norwood District Ranger decisions: Telluride Daily Planet.

Ouray District Ranger decisions: Montrose Daily Press. A “courtesy” copy will also be published in the Ouray County Plaindealer.

Medicine Bow-Routt National Forests and Thunder Basin National Grassland

Forest Supervisor decisions: Laramie Boomerang.

Laramie District Ranger decisions: Laramie Boomerang.

Douglas District Ranger decisions: Casper Star-Tribune.

Brush Creek-Hayden District Ranger decisions: Rawlins Daily Times.

District Ranger decisions for Hahns Peak-Bears Ears and Yampa: Steamboat Pilot.

Parks District Ranger decisions: Jackson County Star.

Nebraska National Forest, Nebraska and South Dakota.

Forest Supervisor decisions: The Rapid City Journal.

Bessey District/Charles E. Bessey Tree Nursery District Ranger decisions: The North Platte Telegraph.

Pine Ridge District Ranger decisions: The Rapid City Journal.

District Ranger decisions for Samuel R. McKelvie National Forest: The North Platte Telegraph.

District Ranger decisions for Fall River and Wall Districts, Buffalo Gap National Grassland: The Rapid City Journal.

District Ranger decisions for Fort Pierre National Grassland: The Capital Journal.

Pike and San Isabel National Forests and Cimarron and Comanche National Grasslands

Forest Supervisor decisions: Pueblo Chieftain.

San Carlos District Ranger decisions: Pueblo Chieftain.

Comanche District-Carrizo Unit District Ranger decisions: Plainsman Herald. A “courtesy” copy will also be published in the Tribune Democrat.

Comanche District-Timpas Unit District Ranger decisions: Tribune Democrat.

Cimarron District Ranger decisions: Elkhart Tri-State News.

South Platte District Ranger decisions: Douglas County News Press.

Leadville District Ranger decisions: Herald Democrat.

Salida District Ranger decisions: The Mountain Mail.

South Park District Ranger decisions: Fairplay Flume.

Pikes Peak District Ranger decisions: The Gazette.

Rio Grande National Forest

Forest Supervisor and District Ranger decisions: Valley Courier.

San Juan National Forest

Forest Supervisor decisions: Durango Herald.

Columbine District Ranger decisions: Durango Herald.

Pagosa District Ranger decisions: Pagosa Sun.

Dolores District Ranger decisions: Cortez Journal.

Shoshone National Forest

Forest Supervisor decisions: Cody Enterprise.

Clarks Fork District Ranger decisions: Powell Tribune.

Wapiti and Greybull Districts Ranger decisions: Cody Enterprise.

Wind River District Ranger decisions: The Dubois Frontier.

Washakie District Ranger decisions: Lander Journal.

White River National Forest

Forest Supervisor decisions: The Glenwood Springs Post Independent.

Aspen-Sopris District Ranger decisions: Aspen Times.

Blanco District Ranger decisions: Herald Times.

Dillon District Ranger decisions: Summit Daily.

Eagle-Holy Cross District Ranger decisions: Vail Daily.

Rifle District Ranger decisions: Citizen Telegram.

Keith Lannom,
Associate Deputy Chief, National Forest System.

[FR Doc. 2024-20720 Filed 9-11-24; 8:45 am]

BILLING CODE 3411-15-P